DEPARTMENT OF THE INTERIOR

Bureau of Indian Affairs

Submission of Collection of Water Delivery and Electric Service Data for the Operation of Irrigation and Power Projects and Systems to the Office of Management and Budget

AGENCY: Bureau of Indian Affairs, Interior.

ACTION: Notice.

SUMMARY: As required by the Paperwork Reduction Act, the Bureau of Indian Affairs (BIA) is submitting the information collection titled: Electrical Service Application, 25 CFR 175, OMB Control Number 1076-0021, and Water Request, 25 CFR 171, OMB Central Number 1076-0141, for reinstatement, review, and approval. These collections expired during the Paperwork Reduction Act renewal process.

DATES: Submit comments on or before August 28, 2006.

ADDRESSES: You may submit comments on the information collection to the Desk Officer for the Department of the Interior at the Office of Management and Budget, by facsimile at (202) 395-6566 or you may send an e-mail to: OIRA_DOCKET@omb.eop.gov.

Please send a copy of the comments to John Anevski, Bureau of Indian Affairs, Branch of Irrigation, Power, and Safety of Dams, Mail Stop 4655-MIB, Washington, DC 20240.

FOR FURTHER INFORMATION CONTACT: You may request further information or obtain copies of the information collection request submission from John Anevski at (202) 208-5480, or by facsimile at (202) 219-0006.

SUPPLEMENTARY INFORMATION: Comments on these two information collections were requested in a Federal Register notice published February 28, 2006 (71 FR 10054). No comments were received.

Request for Comments

The Bureau of Indian Affairs requests you to send your comments on this collection to the two locations listed in the ADDRESSES section. The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond.

OMB has up to 60 days to approve or disapprove the information collections but may respond after 30 days; therefore, comments submitted within 30 days are more assured of receiving maximum consideration. Please note that comments, names, addresses of commentators are available for public review during normal business hours. If you wish us to withhold any information you submit, you must state this prominently at the beginning of your comment. We will honor your request to the extent allowable by law.

Water Request

Type of review: Reinstatement with a change of a previously approved collection.

Title: Water Request, 25 CFR 171.

Summary: In order for irrigators to receive water deliveries, information is needed by the BIA to operate and maintain its irrigation projects and fulfill reporting requirements. Section 171.7 of 25 CFR part 171, [Irrigation] Operation and Maintenance, specifies the information collection requirement. Water users must apply for water delivery. The information to be collected includes: Name; water delivery location; time and date of requested water delivery; duration of water delivery; rate of water flow; number of acres irrigated; crop statistics; and other operational information identified in the local administrative manuals. Collection of this information was previously authorized under an approval by OMB (OMB Control Number 1076-0141). All information is collected at least annually from each water user with a response required each time irrigation water is provided. Annual reporting and record keeping burden for this collection of information is estimated to average 8 minutes per request. There is a range of 1 to 10 requests from each irrigation water user each season with an average of 4 responses per respondent.

Frequency of Collection: On occasion.

Description of Respondents: BIA Irrigation Project Water Users.

Total Respondents: 6539.

Total Annual Responses: 26,945.

Total Annual Burden Hours: 13,756 hours.

Electrical Service Application

Type of review: Reinstatement of a previously approved collection.

Title: Electric Service Application, 25 CFR 175.

Summary: In order for electric power consumers to be served, information is needed by the BIA to operate and maintain its electric power utilities and fulfill reporting requirements. Section 175.22 of 25 CFR part 175, Indian electric power utilities, specifies the information collection requirement. Power consumers must apply for electric service. The information to be collected includes: name; electric service location; and other operational information identified in the local administrative manuals. Collection of this information was authorized under an approval by OMB (OMB Control Number 1076-0021). All information is collected from each electric power consumer. Annual reporting and recordkeeping burden for this collection of information is estimated to average 30 minutes for each response for 3,000 respondents, including the time for reviewing instructions, searching existing data sources, gathering and maintaining the data needed, and completing and reviewing the collection of information. Thus, the total annual reporting and recordkeeping burden for this collection is estimated to be 1,500 hours.

Frequency of Collection: On Occasion.

Description of Respondents: BIA Electric Power Consumers.

Total Respondents: 3,000.

Total Annual Responses: 3,000.

Total Annual Burden Hours: 1,500 hours.

Dated: July 20, 2006.
Michael D. Olsen,
Principal Deputy Assistant Secretary—Indian Affairs.

[FR Doc. E6-12074 Filed 7-27-06; 8:45 am]

BILLING CODE 4310-W7-P